DEPARTMENT OF THE TREASURY

Office of Thrift Supervision

[AC-4: OTS Nos. H-3728 and 17777]

Brookline Bancorp, Inc., Brookline, Massachusetts; Approval of Conversion Application

Notice is hereby given that on, May 15, 2002, the Director, Examination Policy, Office of Thrift Supervision (“OTS”), or her designee, acting pursuant to delegated authority, approved the application of Brookline Savings Bank, Brookline, Massachusetts, to convert to the stock form of organization. Copies of the application are available for inspection by appointment (phone number: 202-906-5922 or e-mail: Public.Info@OTS.Treas.gov) at the Public Reading Room, OTS, 1700 G Street, NW, Washington DC 20552, and the OTS Northeast Regional Office, 10 Exchange Place, 18th Floor, Jersey City, New Jersey 07302.

Dated: May 17, 2002.
By the Office of Thrift Supervision.
Nadine Y. Washington,
Corporate Secretary.

[FR Doc. 02-12792 Filed 5-21-02; 8:45 am]

BILLING CODE 6720-01-M